DEPARTMENT OF ENERGY

Federal Energy Regulatory Commission

[Docket No. RP00-262-002]

Florida Gas Transmission Company; Notice of Compliance Filing

July 19, 2000.

Take notice that on July 13, 2000, Florida Gas Transmission Company (FGT) tendered for filing to become part of its FERC Gas Tariff, Third Revised Volume No. 1, effective March 27, 2000, the following tariff sheet:

Second Substitute Fourth Revised Sheet No. 164

FGT states that on May 1, 2000, FGT filed in Docket No. RP00-262-000 (May 1 Filing) to implement provisions of Order No. 637 regarding the waiver of the rate ceiling for short-term capacity release transactions and the prospective limitations on the availability of the Right-of-First Refusal (“ROFR”). Subsequently, on May 31, 2000, the Commission issued an order in the referenced docket accepting FGT's May 1 Filing subject to conditions and requiring FGT to file tariff revisions within 15 days. On June 15, 2000, FGT filed tariff revisions to comply with the Commission's May 31 Order. In the instant filing, FGT is making a tariff revision which should have been included in the June 15 filing. Specifically on Second Substitute Fourth Revised Sheet No. 164, FGT is changing a reference from Section 284.243 to Section 284.8. Additionally, FGT is requesting that the Commission make Substitute Fourth Revised Sheet No. 165, Third Revised Sheet No. 165A, Fourth Revised Sheet No. 166 and Substitute Second Revised Sheet No. 168A effective March 27, 2000. FGT mistakenly requested that these tariff sheets be made effective March 26, 2000 in FGT's June 15 filing.

Any person desiring to protest this filing should file a protest with the Federal Energy Regulatory Commission, 888 First Street, N.E., Washington, D.C. 20426, in accordance with Section 385.211 of the Commission's Rules and Regulations. All such protest must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18614 Filed 7-21-00; 8:45 am]

BILLING CODE 6717-01-M